DEPARTMENT OF DEFENSE

GENERAL SERVICES ADMINISTRATION

NATIONAL AERONAUTICS AND SPACE ADMINISTRATION

48 CFR Chapter 1

Docket FAR-2008-0003, Sequence 1

Federal Acquisition Regulation; Federal Acquisition Circular 2005-26; Introduction

AGENCIES: Department of Defense (DoD), General Services Administration (GSA), and National Aeronautics and Space Administration (NASA).

ACTION: Summary presentation of interim rule.

SUMMARY: This document summarizes the Federal Acquisition Regulation (FAR) rule agreed to by the Civilian Agency Acquisition Council and the Defense Acquisition Regulations Council in this Federal Acquisition Circular (FAC) 2005-26. A companion document, the Small Entity Compliance Guide (SECG), follows this FAC. The FAC, including the SECG, is available via the Internet at http://www.regulations.gov/.

DATES: For effective dates and comment dates, see separate documents which follow.

FOR FURTHER INFORMATION CONTACT For clarification of content, contact the analyst whose name appears in the table below in relation to the FAR case. Please cite FAC 2005-26, FAR Case 2008-004. Interested parties may also visit our website at http://www.regulations.gov. For information pertaining to status or publication schedules, contact the FAR Secretariat at (202) 501-4755.

Rule Listed in FAC 2005-26
Item | Subject | FAR case | Analyst
I | Prohibition on Restricted Business Operations in Sudan and Imports from Burma (Interim) | 2008-004 | Murphy.

SUPPLEMENTARY INFORMATION: A summary of the FAR rule follows. For the actual revisions and/or amendments to this FAR case, refer to FAR Case 2008-004. FAC 2005-26 amends the FAR as specified below:

Prohibition on Restricted Business Operations in Sudan and Imports from Burma (FAR Case 2008-004) (Interim)

This interim rule amends FAR Subparts 4.12, 15.1, 25.7, 25.11, and Part 52 to implement Section 6 of the Sudan Accountability and Divestment Act of 2007, and Executive Orders 13310 and 13448. Section 6 requires certification that the contractor does not conduct certain business operations in Sudan. This case also updates the list of countries from which most imports are prohibited, to reflect Burma as well as Sudan.

Dated: June 6, 2008.
Al Matera,
Director, Office of Acquisition Policy.

Federal Acquisition Circular

Federal Acquisition Circular (FAC) 2005-26 is issued under the authority of the Secretary of Defense, the Administrator of General Services, and the Administrator for the National Aeronautics and Space Administration.

Unless otherwise specified, all Federal Acquisition Regulation (FAR) and other directive material contained in FAC 2005-26 is effective June 12, 2008.

Dated: June 6, 2008.
Shay D. Assad,
Director, Defense Procurement, Acquisition Policy, and Strategic Sourcing.

Dated: May 30, 2008.
David A. Drabkin,
Acting Chief Acquisition Officer & Senior Procurement Executive, Office of the Chief Acquisition Officer, U.S. General Services Administration.

Dated: May 30, 2008.
William P. McNally,
Assistant Administrator for Procurement, National Aeronautics and Space Administration.

[FR Doc. E8-13151 Filed 6-11-08; 8:45 am]

BILLING CODE 6820-EP-S